DEPARTMENT OF COMMERCE

International Trade Administration

University of Wisconsin-Milwaukee; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5:00 p.m. in Room 4211, Department of Commerce, 14th and Constitution Avenue, NW., Washington, DC.

Docket Number: 00-007.

Applicant: University of Wisconsin-Milwaukee, Milwaukee, WI 53211.

Instrument: Scanning Tunneling Microscope, Model STM 25DH.

Manufacturer: Omicron Vakuumphysik GmbH, Germany.

Intended Use: See notice at 65 FR 21397.

Comments: None received.

Decision: Approved. No instrument of equivalent scientific value to the foreign instrument, for such purposes as it is intended to be used, is being manufactured in the United States. Reasons: The foreign instrument provides:

(1) Capability to operate at temperatures to 1500° K, (2) a vibrationally isolated vacuum chamber capable to 10 −¹¹ mbar and (3) vertical imaging of film surfaces with accuracy to 0.001 nm. The National Institute of Standards and Technology and a university research center for advanced microstructure devices advise that (1) these capabilities are pertinent to the applicant's intended purpose and (2) they know of no domestic instrument or apparatus of equivalent scientific value to the foreign instrument for the applicant's intended use (comparable case).

We know of no other instrument or apparatus of equivalent scientific value to the foreign instrument which is being manufactured in the United States.

Dated: May 16, 2000.
Frank W. Creel,
Director, Statutory Import Programs Staff.

[FR Doc. 00-12979 Filed 5-22-00; 8:45 am]

BILLING CODE 3510-DS-P